DEPARTMENT OF THE TREASURY

Submission for OMB Review; Comment Request

October 14, 2016.

The Department of the Treasury will submit the following information collection request(s) to the Office of Management and Budget (OMB) for review and clearance in accordance with the Paperwork Reduction Act of 1995, Public Law 104-13, on or after the date of publication of this notice.

DATES: Comments should be received on or before November 21, 2016 to be assured of consideration.

ADDRESSES: Send comments regarding the burden estimates, or any other aspect of the information collection(s), including suggestions for reducing the burden, to (1) Office of Information and Regulatory Affairs, Office of Management and Budget, Attention: Desk Officer for Treasury, New Executive Office Building, Room 10235, Washington, DC 20503, or email at OIRA_Submission@OMB.EOP.gov and (2) Treasury PRA Clearance Officer, 1750 Pennsylvania Ave. NW., Suite 8142, Washington, DC 20220, or email at PRA@treasury.gov.

FOR FURTHER INFORMATION CONTACT: Copies of the submissions may be obtained by emailing PRA@treasury.gov, calling (202) 622-0934, or viewing the entire information collection request at www.reginfo.gov.

Departmental Offices (DO)

OMB Control Number: 1505-0221.

Type of Review: Extension of a currently approved collection.

Title: Annual Performance Report and Certification for Section 1603: Payments for Specified Renewable Energy Property in Lieu of Tax Credits.

Abstract: The purpose of the 1603 payment is to reimburse eligible applicants for a portion of the cost of installing specified energy property used in a trade or business or for the production of income. A 1603 payment is made after the energy property is placed in service. Applicants for Section 1603 payments commit in the terms and conditions that are part of the Treasury program application to submitting an annual report for five years from the date the energy property is placed in service.

Affected Public: State, Local, and Tribal Governments.

Estimated Total Annual Burden Hours: 37,500.

Bob Faber,
Acting Treasury PRA Clearance Officer.

[FR Doc. 2016-25324 Filed 10-19-16; 8:45 am]

BILLING CODE 4810-25-P